DEPARTMENT OF JUSTICE

Notice of Lodging Proposed Consent Decree

In accordance with Departmental Policy, 28 CFR 50.7, notice is hereby given that a proposed consent decree in Madonna v. United States Army Corps of Engineers, United States District Court for the Central District of California, CV 01-07515 and United States v. Madonna, United States District Court for the Central District of California, CV 02-00092, was lodged with the United States District Court for the Central District of California on June 27, 2002. This proposed Consent Decree concerns a compliant filed by Alex Madonna, dba Madonna Construction Co., against the United States Army Corps of Engineers, pursuant to the Clean Water Act and the Administrative Procedure Act to obtain injunctive relief from the Corps for failing to comply with applicable procedures for suspending and revoking Plaintiff's Clean Water Act permit. The proposed Consent Decree also concerns a complaint filed by the United States against Alex Madonna, dba Madonna Construction Co., pursuant to section 404 of the Clean Water Act to obtain injunctive relief and impose civil penalties against Madonna for unlawfully discharging dredged or fill material into waters of the United States.

The proposed Consent Decree prohibits Madonna from discharging any pollutant into waters of the United States on or adjacent to the Froom Ranch and Boysen Ranch Sites in San Luis Obisqo, unless such discharge complies with the provisions of the CWA and its implementing regulations. The proposed Consent Decree requires the creation of 10.2 acres of wetlands and the payment of $15,000 in civil penalties.

The Department of Justice will accept written comments relating to this proposed Consent Decree for thirty (30) days from the date of publication of this notice. Please address comments to Pamela S. Tonglao, Trial Attorney, United States Department of Justice, Environmental and Natural Resources Division, P.O. Box 23986, Washington DC 20026-3986, and refer to Madonna v. Corps. DJ# 90-5-1-4-16481.

The proposed Consent Decree may be examined at the Clerk's Office, United States District Court for the Central District of California, 312 North Spring Street, Los Angles, California 90012. In addition, the proposed Consent Decree my be viewed on the World Wide Web at http://www.usdoj.gov/enrd/enrd-home.heml.

Stephen Samuels,
Assistant Section Chief, Environmental Defense Section, Environment & Natural Resources Division.

[FR Doc. 02-17363 Filed 7-9-02; 8:45 am]

BILLING CODE 4410-15-M